FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 8, 2015.

A. Federal Reserve Bank of Chicago (Colette A. Fried, Assistant Vice President) 230 South LaSalle Street, Chicago, Illinois 60690-1414:

1. William C. Hess, individually, and acting in concert with Karen Hess, both of Carroll, Iowa, and Timothy O. Lee, Coon Rapids, Iowa; to retain control of Community Grain Co., Carroll, Iowa, and thereby indirectly acquire voting shares of Iowa Savings Bank, both in Carroll, Iowa.

B. Federal Reserve Bank of Minneapolis (Jacquelyn K. Brunmeier, Assistant Vice President) 90 Hennepin Avenue, Minneapolis, Minnesota 55480-0291:

1. Gregory Robert LeGare, Osseo, Wisconsin; to acquire voting shares of United Bancorporation, and thereby indirectly gain control of United Bank, Osseo, Wisconsin; Farmers State Bank, Stickney, South Dakota; Clarke County State Bank, Osceola, Iowa; Bank of Poynette, Poynette, Wisconsin; Cambridge State Bank, Cambridge, Wisconsin; and Lincoln Community Bank, Merrill, Wisconsin.

Board of Governors of the Federal Reserve System, December 18, 2014.
Michael J. Lewandowski,
Associate Secretary of the Board.

[FR Doc. 2014-30025 Filed 12-22-14; 8:45 am]

BILLING CODE 6210-01-P